DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: License Exception, Humanitarian Donations.

Agency Form Number: None.

OMB Approval Number: 0694-0033.

Type of Request: Extension of a currently approved collection of information.

Burden: 10 hours.

Average Time per Response: 5 hours.

Number of Respondents: 2.

Needs and Uses: Section 7(g) of the EAA, as amended by the Export Administration Amendments Act of 1985 (Pub. L. 99-64), exempts from foreign policy controls exports of donations to meet basic human needs. Since the re-write of the Export Administration Regulations, an exporter is permitted to ship humanitarian goods identified in Supplement 2 to Part 740, to embargoed destinations using the new License Exception procedures. This regulation reduces the regulatory burden on the exporters by enabling them to make humanitarian donations with only minimal recordkeeping.

Affected Public: Individuals or households, business or other for-profit organizations, and not-for-profit institutions.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: March 1, 2007.
Gwellnar Banks,
Management Analyst, Office of the Chief Information Officer.

[FR Doc. E7-3877 Filed 3-5-07; 8:45 am]

BILLING CODE 3510-DT-P